DEPARTMENT OF COMMERCE

National Oceanic and Atmospheric Administration

50 CFR Part 680

[Docket No. 240529-0147]

RIN 0648-BM81

Fisheries of the Exclusive Economic Zone; Bering Sea and Aleutian Islands Crab Rationalization Program

AGENCY: National Marine Fisheries Service (NMFS), National Oceanic and Atmospheric Administration (NOAA), Commerce.

ACTION: Final rule.

SUMMARY: NMFS issues regulations to implement amendments 54 and 55 to the Fishery Management Plan (FMP) for Bering Sea and Aleutian Islands (BSAI) King and Tanner Crabs (Crab FMP). This final rule revises two provisions of the Crab Rationalization Program (CR Program) to do the following: change active crab fishery participation requirements for crab quota share (QS) established for catcher vessel crew (CVC) and catcher/processor crew (CPC), also called C Shares; expand individual processing quota (IPQ) exemptions for custom processing from processor use caps; and remove the processor facility use cap. These actions are intended to promote the goals and objectives of the Magnuson-Stevens Fishery Conservation and Management Act (Magnuson-Stevens Act), the Crab FMP, and other applicable laws.

DATES: This rule is effective July 5, 2024, except for the addition of a definition for “Fishing trip” in 50 CFR 680.2 at instruction 2 and the amendments to 50 CFR 680.40 at instruction 5 and 50 CFR 680.43 at instruction 8, which are effective May 31, 2024.

ADDRESSES: Electronic copies of amendments 54 and 55 to the Crab FMP, the Regulatory Impact Reviews (RIRs), and the Categorical Exclusion prepared for this action are available from https://www.regulations.gov or from the NMFS Alaska Region website at https://fisheries.noaa.gov/region/alaska. Application for Annual Crab IFQ Permit forms are available from https://www.fisheries.noaa.gov/permit/bering-sea-and-aleutian-islands-crab-rationalization-applications-and-reporting-forms. NMFS determined that this final action amending the Crab FMP is categorically excluded from requirements to prepare an environmental assessment under the National Environmental Policy Act.

The Environmental Impact Statement (EIS), RIR, Final Regulatory Flexibility Analysis (FRFA), and Social Impact Assessment that were previously prepared for the CR Program are available from the NMFS Alaska Region website at https://www.fisheries.noaa.gov/region/alaska.

Written comments regarding the burden-hour estimates or other aspects of the collection-of-information requirements contained in this final rule may be submitted to NMFS Alaska Region, P.O. Box 21668, Juneau, AK 99802-1668, Attn: Gretchen Harrington; and to https://www.reginfo.gov/public/do/PRAMain. Find this particular information collection by selecting “Currently under Review” or by using the search function.

FOR FURTHER INFORMATION CONTACT: Andrew Olson, 907-586-7228, andrew.olson@noaa.gov.

SUPPLEMENTARY INFORMATION: NMFS published a Notice of Availability for amendments 54 and 55 to the Crab FMP in the Federal Register on February 27, 2024 (89 FR 14427), with comments invited through April 29, 2024. NMFS published a proposed rule to implement amendments 54 and 55 to the Crab FMP on March 7, 2024 (89 FR 16510) with comments invited through April 8, 2024. The Secretary of Commerce has delegated her authority to approve fishery management plan amendments to the Assistant Administrator for NOAA fisheries, who approved amendments 54 and 55 on May 29, 2024, after considering information from the public and determining that amendments 54 and 55 are consistent with the Crab FMP, the Magnuson-Stevens Act, and other applicable laws. All comments submitted on or before April 29, 2024, were considered in the approval of amendments 54 and 55 and the development of this final rule and no substantive changes have been made from the proposed rule in this final rule. A summary of the comments and NMFS's responses are provided under the heading “Comments and Responses” below.

Background

This section includes a brief description of the CR Program and the particular CR Program regulations that would be modified by this final rule and a summary of (1) CR Program, (2) C Shares and Active Participation Requirements, (3) IPQ Use Caps and Custom Processing, and (4) Processer Facility Use Cap. Additional background information and detail about the CR Program is provided in the final rule to implement the CR Program (70 FR 10147, March 2, 2005). In this document, the phrases “crab fishery,” “crab fisheries,” “quota share (QS),” “individual fishing quota (IFQ),” and “individual processor quota (IPQ)” refer to CR Program fisheries and the associated CR Program, unless otherwise specified. A more detailed description of the need for this rule and background information on relevant CR Program elements is included in the preamble to the proposed rule (March 7, 2024, 89 FR 16510) and section 3.2 of the RIRs for amendments 54 and 55.

CR Program

The CR Program initially assigned QS to persons based on their historic participation in one or more of the nine BSAI crab fisheries during a specific time period. Under the CR Program, NMFS issued four types of QS: catcher vessel owner (CVO) QS was assigned to holders of License Limitation Program (LLP) licenses who delivered their catch to shoreside crab processors or to stationary floating crab processors; catcher/processor owner (CPO) QS was assigned to LLP license holders who harvested and processed their catch at sea; CPC QS was issued to operators and crew on board catcher/processor vessels; and CVC QS was issued to operators and crew on board catcher vessels.

Each crab fishing year, which is the period from July 1 of one calendar year through June 30 of the following calendar year (§ 680.2), a person who holds QS in one or more of the crab fisheries may receive an exclusive harvest privilege for a portion of the annual total allowable catch (TAC) of a crab fishery, called an individual fishing quota (IFQ).

NMFS also issued processor quota share (PQS) to CR Program processors based on their historic participation in one or more of the nine crab fisheries during a specific time period. Each crab fishing year, PQS yields an exclusive privilege to process a portion of the IFQ for each crab fishery, and this annual exclusive privilege is called IPQ. Annually, both harvester and processor QS holders must submit timely applications to NMFS by June 15 to ensure proper issuance of IFQ and IPQ prior to the start of the crab fishing year on July 1.

C Shares and Active Participation Requirements

The Council's intent in creating CVC QS and CPC QS in the CR Program was to provide both a QS holding opportunity for long-term individual fishery participants who intended to remain active in the CR Program crab fisheries and an entry level QS acquisition opportunity for new individual entrants. To qualify for annual issuance of IFQ and to retain QS, CVC QS and CPC QS holders must meet active participation requirements over the most recent, consecutive 3 and 4 crab fishing years. Active participation requirements must be demonstrated by either participating as crew in at least one delivery for a CR Program crab fishery or, if the CVC QS or CPC QS holder was an initial recipient, participating as crew in at least 30 days of fishing in any commercial fishery managed by the State of Alaska or U.S. commercial fishery in Federal waters off Alaska (§ 680.40(g)(2) and (m)). Exemptions from participation requirements exist for CVC QS and CPC QS holders who are new entrants and have held QS for less than 3 or 4 crab fishing years ((§ 680.40(g)(2)(iii) and (m)(5)), initial recipients of QS, or individuals who participated as crew in a crab delivery prior to the CR Program implementation (§ 680.41(c)(1)(vii)(B)). Currently, if a CVC QS or CPC QS holder holds QS exclusively in a single crab fishery and that fishery is closed for an entire crab fishing year, NMFS excludes that year when determining if participation requirements have been satisfied.

IPQ Use Caps and Custom Processing

When the Council recommended the CR Program, it expressed concern about the potential for excessive consolidation of QS and PQS whereby too few persons would control the QS or PQS and the resulting annual IFQ and IPQ. The Council determined that excessive consolidation can have adverse effects on crab markets, price setting negotiations between harvesters and processors, employment opportunities for harvesting and processing crew, tax revenue to communities in which crab are landed, and other factors considered and described in the CR Program EIS. To address the consolidation concerns, the CR Program limits the amount of QS that a person can hold (i.e., own), the amount of IFQ that a person can use, and the amount of IFQ that can be used (i.e., fished) on board a crab fishery vessel. Similarly, the CR Program limits the amount of PQS that a person can hold, the amount of IPQ that a person can use (i.e., the amount of crab they can process), and the amount of IPQ that can be processed and custom processed at a given facility. Collectively, these harvesting and processing limits are commonly referred to as use caps.

A custom processing arrangement exists when one IPQ holder has a contract with the owners of a processing facility to have crab processed at that facility, when that IPQ holder does not have an ownership interest in the processing facility, and when that IPQ holder is not otherwise affiliated with the owners of that crab processing facility. The Council created custom processing arrangement exemptions to improve operational efficiencies in crab fisheries with historically low TACs or that occur in more remote regions. Thus, in certain CR crab fisheries, the Council exempted IPQ crab processed under a custom processing arrangement from applying against the IPQ use cap. Custom processing arrangement exemptions allow processing facilities to process more crab without triggering the IPQ use cap and prevent potential loss of financial benefits due to forgone crab harvests.

Processor Facility Use Cap

The Eastern Aleutian Island golden king crab (EAG) (Lithodes aequispinus) and Western Aleutian Island red king crab (WAI) (Paralithodes camtschaticus) crab fisheries are the only 2 of the 9 CR crab fisheries subject to a 60 percent cap on the amount of IPQ that can be used at a processing facility. This 60 percent use cap provision applies to all IPQ crab processed at a shoreside crab processor or stationary floating crab processor and does not exempt IPQ crab that are delivered under a custom processing arrangement from IPQ use cap calculations. This provision was intended to limit the potential consolidation of IPQ ownership that can occur under the custom processing exemption and to prevent excessive consolidation of the number of processors available to harvesters, a scenario that is more likely in the EAG and WAI fisheries compared to the other fisheries with custom processing exemptions given their historically relatively small TACs compared to other crab fisheries and with the WAI fishery being closed since the 2004/2005 crab fishing year.

Amendment 54 and Amendment 55

The final rule implements amendments 54 and 55 to the Crab FMP. The preamble to the proposed rule provides a description of the need for amendments 54 and 55 which is briefly summarized here.

Since 2020, the COVID-19 pandemic and abundance declines in the Bristol Bay red king crab (BBR) and Bering Sea snow crab (BSS) (Chionoecetes opilio) fisheries have reduced harvest opportunities for CR Program participants resulting in processor inefficiencies, potential for stranded (unfished) IFQ, and potential that CVC QS and CPC QS holders would not meet active participation requirements necessary to receive annual issuance of IFQ and retain QS in subsequent years. This dynamic resulted in NMFS withholding IFQ or revoking QS for CVC QS and CPC QS holders that have failed to meet active participation requirements.

On July 15, 2022, NMFS issued an emergency rule (87 FR 42390) to provide CVC QS and CPC QS holders 1 additional year to demonstrate active participation in any crab fishery for receiving IFQ or maintaining CVC QS or CPC QS, regardless of participation status in the preceding 4 years. At the same time the Council requested that emergency action, the Council also initiated an analysis of alternatives for changes to CVC QS and CPC QS participation requirements to address the reduced crew opportunities due to the COVID-19 pandemic and abundance declines in the BBR and BSS fisheries. The decline in crab abundance has also led to processor inefficiencies, with more facilities than necessary processing relatively low TACs, posing economic challenges under current IPQ use caps and risking the stranding of IFQ.

In December 2023, the Council recommended amendments 54 and 55 to the Crab FMP to provide operators and crew greater flexibility in meeting CR Program participation requirements and to improve CR Program processor efficiency. Amendment 54, amendment 55, and this final rule are intended to help CR Program participants adapt to the BSAI crab fisheries growing instability. There are continuing historical and recent closures for a number of crab fisheries, some of which have been declared overfished or are in the process of rebuilding. CR fisheries are experiencing variable stock health dynamics impacted by environmental change. Amendment 54 and this final rule enhance operational flexibility for current CVC QS and CPC QS holders, equalize active participation requirements for both initial recipients and new entrants, and maintain that CVC QS and CPC QS are held by active fishery participants only. Active participation requirements encourage those who are no longer active in the crab fishery to divest their CVC QS or CPC QS to preserve opportunities for new entrants to acquire QS. Amendment 55 and this final rule improve processor efficiency and enhance opportunities for IFQ processing. Further, amendment 55 and this final rule reduce chances that IFQ will be stranded, thereby benefiting processors, harvesters, and communities with processing facilities.

The Final Rule

This final rule revises regulations at 50 CFR part 680. This section describes the revisions to implement amendments 54 and 55 to the Crab FMP, as well as additional, related revisions recommended by the Council and/or proposed by NMFS.

C Shares and Active Participation Requirements

This final rule revises several regulations governing CVC QS, CPC QS and active participation requirements. First, this final rule modifies the active participation requirements for CVC QS and CPC QS holders by restarting the 3- and 4-crab fishing year rolling timeframe for meeting active participation requirements for all QS holders. CVC QS and CPC QS holders must satisfy participation requirements for one of the 3 crab fishing years preceding the crab fishing year for which they are applying for IFQ to be eligible to receive an annual issuance of IFQ. CVC QS and CPC QS holders must satisfy participation requirements during one of the 4 crab fishing years preceding the crab fishing year for which they are applying for IFQ in order to retain QS. This final rule modifies regulations at § 680.40 to restart the active participation requirement based on this final rule's effective date. For example, if this final rule is made effective in June 2024, active participation requirements will restart for the 2024/2025 crab fishing year and CVC QS and CPC QS holders will not need to demonstrate active participation until the 2027/2028 crab fishing year for annual issuance of IFQ and in 2028/2029 for retention of QS. In order to receive IFQ for the 2027/2028 crab fishing year, a CVC QS or CPC QS holder will have had to have satisfied the participation requirements during the 2024/2025, 2025/2026, or 2026/2027 crab fishing years. For retention of QS in the subsequent 2028/2029 crab fishing year, a CVC QS or CPC QS holder will have had to have satisfied the participation requirements during the 2024/2025, 2025/2026, 2026/2027, or 2027/2028 crab fishing years.

Second, this final rule adds regulations to allow a CVC QS or CPC QS holder to request NMFS to reissue any QS that NMFS revoked between July 1, 2019, and the effective date of this final rule. In order to initiate reissuance of previously revoked CVC QS or CPC QS, NMFS added a field on the Application for Annual Crab IFQ Permit to be available for two application cycles. This approach provides approximately one year, to encompass two application cycles (due on June 15 each year), for an individual to request reissuance of their revoked CVC QS or CPC QS.

Third, this final rule standardizes and expands the participation requirements by removing the distinction between initial recipients and new entrants and allowing for all CVC QS and CPC QS holders to satisfy active participation requirements by either participating in at least one fishing trip with a delivery of crab in any CR Program fishery or by participating in crew activity in any combination on board fishing or tender vessels in commercial fisheries managed by the State of Alaska or a U.S. commercial fishery in Federal waters off Alaska for at least 30 days.

Fourth, this final rule expands the single closed CR Program fishery exemption for CVC QS and CPC QS holders with QS exclusively in closed CR Program fisheries to apply to more than just a single closed CR Program fishery. With this exemption, if a CVC QS or CPC QS holder holds QS exclusively in closed CR Program fisheries in a given crab fishing year, that year will be excluded when determining if participation requirements have been met for eligibility to receive an annual issuance of IFQ and prevent revocation of QS.

Fifth, this final rule clarifies that the requirement to participate as crew in at least one crab delivery in order to meet participation requirements also includes participating in the fishing trip that results in a crab landing. This final rule modifies the definition of “fishing trip” as defined at § 680.2 to be applicable for the purposes of participation requirements at § 680.40(g) and (m).

IPQ Use Caps and Custom Processing

This final rule revises several regulations concerning custom processing and IPQ use caps. First, this final rule revises regulations at § 680.42(b) to identify BSS, BBR, and WAG crab fisheries as fisheries in which custom processing is exempt from the IPQ use cap. Adding these crab fisheries to those covered by the custom processing exemption means that all crab fisheries are now included; the list of exempt crab fisheries is no longer necessary and has been removed from regulatory text. Under revised § 680.42(b), custom processing would count toward the IPQ use cap only in rare situations involving specific geographic boundaries. Also, this final rule revises the remaining regulations included at § 680.42(b)(1) through (9) to specify how IPQ use caps are calculated.

Second, this final rule revises the definition of “custom processing” at § 680.2 to define ownership interest consistent with terminology used in regulations governing IPQ use caps exemptions at §§ 680.7(a)(7) and 680.42(b)(7). Next, this final rule adds “custom processing” to § 680.42(b) to clarify that IPQ crab processed as defined in § 680.2 in any crab fishery does not count towards IPQ use caps. Finally, this final rule modifies regulations at § 680.7(a)(7) in order to guide readers to § 680.42(b) for IPQ crab use cap calculations.

Third, this final rule removes regulations at § 680.7(a)(8) that prohibited using a corporate form to circumvent the IPQ use cap through custom processing.

Lastly, this final rule revises regulations at § 680.42(b)(1) to specify that a person cannot exceed their IPQ beyond their held PQS unless they received an initial allocation of PQS exceeding the 30 percent use cap or the IPQ is subject to an exemption specified at § 680.4(p) or is used for custom processing at a facility within specific boundaries specified at § 680.42(b)(1)(ii)(C)(2). This final rule also modifies § 680.42(b)(2) and subparagraph (ii) to make technical fixes and accurately cite the custom processing exemption while restructuring regulations at § 680.42(b)(3) through (6) for better clarity and comprehension.

Processer Facility Use Cap

This final rule revises regulations at § 680.7(a)(9) to remove the limit on shoreside crab processors and stationary floating crab processors east of 174° W from processing more than 60 percent of the IPQ issued in the EAG and WAI crab fisheries. This change removes this restriction that was specific to the EAG and WAI crab fisheries and helps ensure that harvester IFQ is fished even if there is only one processing facility operating for each of these crab fisheries.

Other Regulatory Provisions

This final rule also includes various technical edits and corrections to particular regulations to remove typographical errors and improve clarity. This final rule revises regulations at § 680.41(j) to correct a typographical error to change the word “and” to “an” and at § 680.42(a)(3)(i) to remove the phrase “more than,” which is redundant with the preceding phrase “in excess of.”

Finally, this final rule modifies regulations at § 680.42(b)(1)(i) by replacing the phrase “PQS in excess of” with “more than” to align the language with similar terminology used at § 680.42(b)(1)(ii) regarding IPQ usage. Additionally, this final rule modifies regulations at § 680.42(b)(2) by replacing “more than” with “IPQ in excess of” to maintain consistency with language used in § 680.42(a).

Comments and Responses

NMFS received nine comment letters on the proposed rule. Two comments were outside the scope of this action and NMFS considered four unique relevant comments, which are summarized and responded to below.

Comment 1: Seven commenters express support for the proposed rule and concur with the rationale for the action to improve processor efficiency and flexibility for CVC and CPC QS holders in meeting participation requirements for CR Program fisheries. The commenters urge NMFS to expedite adoption of this rule prior to the Application for Annual Crab IFQ Permit deadline of June 15, 2024.

Response: NMFS acknowledges this comment.

Comment 2: The commenter supports this rule as long as it supports sustainable and environmentally friendly crab harvesting and the methods used to harvest crab do not jeopardize crab populations.

Response: NMFS acknowledges this comment. As described in the preamble to the proposed rule, this final rule, and the RIRs, this action does not modify the methods or processes used in determining annual stock abundance and management of crab stocks and fisheries.

Comment 3: Two commenters express concerns with existing barriers for new entrants to invest in CR Program fisheries and request NMFS consider modifying CVC QS and CPC QS holder transfer eligibility requirements to match or be similar to the participation requirements being changed in this action under amendment 54 to increase accessibility.

Response: This final rule modifies participation requirements to increase flexibility for CVC QS and CPC QS holders to receive an annual issuance of IFQ and retain QS, per amendment 54 to the Crab FMP. Modifying regulations associated with CVC QS and CPC QS holder transfer eligibility requirements is outside the scope of this action.

Comment 4: The commenter requests NMFS conduct an Environmental Assessment (EA) for amendment 54 due to the RIR not adequately considering the impact to harvest levels, crab stock abundance, and the human environment by reinstating CVC QS and CPC QS allocation of the crab fisheries TACs.

Response: NMFS disagrees. This final rule does not modify the methods or processes used in determining annual stock abundance and management of the crab stocks and fisheries, nor does it modify the total amount of CVC QS and CPC QS under the CR Program. Amendment 54 and this final rule modify participation requirements to increase flexibility for CVC QS and CPC QS holders to receive an annual issuance of IFQ and retain QS. This final rule allows CVC QS and CPC QS holders who failed to meet participation requirements and had their QS revoked to apply for reissuance. In other words, although this final rule may result in more CVC QS and CPC QS holders, it does not change the QS pool available as CVC QS and CPC QS. Therefore, this final rule does not impact harvest levels, crab stock abundance, or the human environment. A NEPA Categorical Exclusion is appropriate for this action since it is a technical change to a fishery management regulation that will not result in a substantial change in fishing location, timing, effort, authorized gear types, or harvest levels. Section 3.2 of the RIR for amendment 54 provides additional detail on CR Program management and establishment of CVC QS and CPC QS.

Changes From Proposed to Final Rule

There have been no changes in this final rule from the proposed rule.

Classification

Pursuant to sections 304(b) and 305(d) of the Magnuson-Stevens Act, the NMFS Assistant Administrator has determined that this final rule is consistent with the amendments 54 and 55, other provisions of the Magnuson-Stevens Act, and other applicable law. This final rule has been determined to be not significant for purposes of Executive Order 12866.

Administrative Procedure Act

The NMFS Assistant Administrator finds good cause under 5 U.S.C. 553(d)(3) to waive the 30-day delay in the effective date of this final rule for changes to amendment 54 that include participation requirements for CVC QS and CPC QS holders, the definition of “fishing trip” specified in 50 CFR 680.2, § 680.40 and § 680.43. Amendment 54 is designed to benefit all CVC QS and CPC QS holders who participate in CR Program fisheries, and waiving the 30-day delay in the effective date of this final rule is necessary to provide CVC QS and CPC QS holders sufficient time to complete their Application for Annual Crab IFQ Permit. Waiver allows timely reissuance of previously revoked QS, issuance of annual IFQ, determination of QS withholding and revocations, and consideration of any applicable exemptions. The Application for Annual Crab IFQ Permit are due by June 15, 2024, and amendment 54 implementing regulations must be effective prior to this application deadline for applicants to have access to the revised application form and have time to request re-issuance of previously revoked QS. Without wavier of the 30-day cooling off-period for the regulations implementing amendment 54, CVC QS and CPC QS holders would not realize the benefits of this action until the subsequent 2025/2026 crab fishing year, resulting in unnecessary economic hardship. For reasons set forth in the Analysis and the preambles of the proposed rule and the final rule, the Council and NMFS have determined that these actions will provide flexibility for CVC QS and CPC QS holders to meet participation requirements regardless of the level of crab abundance and remain active participations in CR Program fisheries.

Certification Under the Regulatory Flexibility Act

The Chief Counsel for Regulation of the Department of Commerce certified to the Chief Counsel for Advocacy of the Small Business Administration during the proposed rule stage that this action does not have a significant economic impact on a substantial number of small entities. The factual basis for the certification was published in the proposed rule and is not repeated here. No comments were received regarding this certification. As a result, a regulatory flexibility analysis was not required and none was prepared.

Regulatory Impact Review

A Regulatory Impact Review was prepared for amendment 54 and 55 to assess all costs and benefits of available regulatory alternatives. Copies of these RIRs are available from NMFS (see ADDRESSES). The Council recommended amendments 54, 55, and the regulatory revisions in this final rule based on those measures that maximized net benefits to the Nation. Specific aspects of the economic analysis are discussed above in the Certification under the Regulatory Flexibility Act section.

Collection-of-Information Requirements

This final rule contains a collection-of-information requirement subject to review and approval by the Office of Management and Budget (OMB) under the Paperwork Reduction Act (PRA). This final rule revises the existing requirements for the collection of information OMB Control Number 0648-0514 (Alaska Region Crab Permits). Because of a concurrent action for 0648-0514, the revision to that collection of information for this final rule was assigned a temporary control number, 0648-0820, that will later be merged into 0648-0514. This collection is revised to add an option to the Application for Annual Crab IFQ Permit for a CVC QS and CPC QS holder to request reissuance of previously revoked CVC QS or CPC QS. This final rule does not change the number of respondents, responses, burden hours, or burden costs for this application. Public reporting burden for the Application for Annual Crab IFQ Permit is estimated to average 2.5 hours, including the time for reviewing instructions, searching existing data sources, gathering and maintaining the data needed, and completing and reviewing the collection of information.

We invite the general public and other Federal agencies to comment on proposed and continuing information collections, which helps us assess the impact of our information collection requirements and minimize the public's reporting burden. Written comments and recommendations for these information collections can be submitted on the following website: https://www.reginfo.gov/public/do/PRAMain. Find the particular information collection by selecting “Currently under Review” or by using the search function and entering either the title of the collection or the OMB control number.

Notwithstanding any other provisions of law, no person is required to respond to, and no person is be subject to penalty for failure to comply with, a collection of information subject to the requirements of the PRA, unless that collection of information displays a currently valid OMB control number.

List of Subjects in 50 CFR Part 680

Alaska, Fisheries, Reporting and recordkeeping requirements.

Dated: May 30, 2024.
Samuel D. Rauch, III,
Deputy Assistant Administrator for Regulatory Programs, National Marine Fisheries Service.

For the reasons set out in the preamble, NMFS amends 50 CFR part 680 as follows:

PART 680—SHELLFISH FISHERIES OF THE EXCLUSIVE ECONOMIC ZONE OFF ALASKA

1. The authority citation for 50 CFR part 680 continues to read as follows:

Authority: 16 U.S.C. 1862; Pub. L. 109-241; Pub. L. 109-479.

2. Effective May 31, 2024, amend § 680.2 by adding a definition for “Fishing trip” in alphabetical order to read as follows:

§ 680.2 Definitions.

* * * * *

Fishing trip means, for the purposes of §§ 680.7(e)(2) and 680.40(g)(2)(i)(A) and (m)(2)(i), the period beginning when a vessel operator commences harvesting crab in a crab QS fishery and ending when the vessel operator offloads or transfers any processed or unprocessed crab in that crab QS fishery from that vessel.

* * * * *

3. Effective July 5, 2024, further amend § 680.2 by revising the definition of “Custom processing” and removing the definition of “Fishing trip for purposes of § 680.7(e)(2)”.

The revision reads as follows:

§ 680.2 Definitions.

* * * * *

Custom processing means processing crab in any CR fishery when the IPQ holder does not have a 10 percent or greater direct or indirect ownership interest in the processing facility or affiliation with the processing facility's owners.

* * * * *

4. Effective July 5, 2024, amend § 680.7 by:

a. Adding a comma after the first use of “fishery” in paragraph (a)(5);

b. Revising paragraph (a)(7); and

c. Removing paragraphs (a)(8) and (9).

The revision reads as follows:

§ 680.7 Prohibitions.

(a) * * *

(7) For an IPQ holder to use more IPQ than the maximum amount of IPQ that may be held by that person under § 680.42(b).

* * * * *

5. Effective May 31, 2024, amend § 680.40 by revising paragraphs (g)(2), (g)(3) introductory text, and (m)(1), (2), and (5) and adding paragraph (m)(6) to read as follows:

§ 680.40 Crab quota share (QS), processor QS (PQS), individual fishing quota (IFQ), and individual processor quota (IPQ).

* * * * *

(g) * * *

(2) Eligibility for CVC IFQ and CPC IFQ. For each crab fishing year after June 30, 2027, individuals holding CVC QS or CPC QS permits must meet the participation requirements set forth in paragraph (g)(2)(i) of this section in order to receive CVC IFQ or CPC IFQ, unless the CVC QS permit holder or CPC QS permit holder meets the exemption provided in paragraph (g)(2)(ii) of this section.

(i) During one of the 3 crab fishing years preceding the crab fishing year for which the individual is filing an annual crab IFQ permit application, the individual has participated as crew in at least:

(A) One fishing trip where a delivery of crab is made in any CR fishery; or

(B) 30 days of:

(1) Fishing in a commercial fishery managed by the State of Alaska or in a Federal commercial fishery in the EEZ off Alaska. Individuals may combine their participation as crew in State of Alaska and Federal commercial fisheries in waters off Alaska to meet this requirement; or

(2) On a tender vessel operating in support of a commercial fishery managed by the State of Alaska or in a Federal commercial fishery in the EEZ off Alaska. Individuals may combine their participation as crew on a tender vessel in State of Alaska and Federal commercial fisheries in waters off Alaska to meet this requirement.

(C) Individuals may combine their participation specified in paragraphs (g)(2)(i)(B)(1) and (2) of this section to meet this requirement.

(D) If the individual holds CVC QS or CPC QS in one or more CR fisheries and all CR crab fisheries for which the QS holder holds QS are closed, NMFS will exclude that crab fishing year when determining whether the individual has satisfied the participation requirements specified in paragraph (g)(2)(i) of this section.

(ii) All of the CVC QS or CPC QS permits held by the individual were acquired using the eligibility criteria in § 680.41(c)(1)(vii)(B) or reissued under paragraph (m)(6) of this section and the individual has held those CVC QS or CPC QS permits for less than 3 crab fishing years.

(3) Withholding of CVC IFQ or CPC IFQ. Beginning July 1, 2027, the Regional Administrator will withhold issuance of CVC IFQ or CPC IFQ to an individual who has not met the participation requirements set forth in paragraph (g)(2) of this section. The Regional Administrator will withhold an individual's CVC IFQ or CPC IFQ in accordance with the procedures set forth in paragraphs (g)(3)(i) and (ii) of this section.

* * * * *

(m) * * *

(1) Beginning July 1, 2028, and each crab fishing year thereafter, individuals allocated CVC QS or CPC QS must meet the participation requirements set forth in paragraph (m)(2) of this section in order to retain their CVC QS or CPC QS unless the CVC QS holder or CPC QS holder meets the exemption provided in paragraph (m)(5) of this section.

(2) During one of the 4 crab fishing years preceding the crab fishing year for which the individual is filing an annual crab IFQ permit application, the individual has participated as crew in at least:

(i) One fishing trip where a delivery of crab is made in any CR fishery; or

(ii) 30 days of:

(A) Fishing in a commercial fishery managed by the State of Alaska or in a Federal commercial fishery in the EEZ off Alaska. Individuals may combine their participation as crew in State and Federal commercial fisheries to meet this requirement; or

(B) On a tender vessel operating in support of a commercial fishery managed by the State of Alaska or in a Federal commercial fishery in the EEZ off Alaska. Individuals may combine their participation as crew on a tender vessel in State and Federal commercial fisheries to meet this requirement.

(iii) Individuals may combine participation specified in paragraphs (m)(2)(ii)(A) and (B) of this section to meet this requirement.

(iv) If the individual holds CVC QS or CPC QS in one or more CR crab fisheries and all CR crab fisheries for which the QS holder holds QS are closed, NMFS will exclude that crab fishing year when determining whether the individual has satisfied the participation requirement specified in this paragraph (m)(2).

* * * * *

(5) All of the CVC QS or CPC QS permits held by the individual were acquired using the eligibility criteria in § 680.41(c)(1)(vii)(B) or reissued under paragraph (m)(6) of this section, and the person has held those CVC QS or CPC QS permits for less than 4 crab fishing years.

(6) For CVC QS or CPC QS revoked by NMFS under regulations paragraph (m)(2) of this section from July 1, 2019, through May 31, 2024, an individual may apply for reissuance of QS with the individual's annual crab IFQ permit application from May 31, 2024 through June 15, 2025.

§ 680.41 [Amended]

6. Effective July 5, 2024, amend § 680.41 by removing the word “and” and adding in its place the word “an” in the paragraph (j) heading.

7. Effective July 5, 2024, amend § 680.42 by:

a. Removing the phrase “more than” in paragraph (a)(3)(i) introductory text;

b. Removing the phrase “more than” and adding in its place the phrase “PQS in excess of” in the first sentence of paragraph (b)(1)(i);

c. Revising paragraphs (b)(1)(ii)(A) and (B);

d. Adding paragraph (b)(1)(ii)(C);

e. Revising paragraphs (b)(2) introductory text, (b)(2)(ii), and (b)(3);

f. Redesignating paragraphs (b)(4) through (6) as paragraphs (b)(7) through (9);

g. Adding new paragraphs (b)(4) through (6);

h. Removing the reference to “(b)(4)(iv)” and adding in its place “(b)(7)(iv)” in newly redesignated paragraph (b)(7) introductory text;

i. Removing “paragraph (b)(4) of this section” and adding in its place “this paragraph (b)(7)” in newly redesignated paragraph (b)(7)(iv); and

j. Removing “(b)(4)” and adding in its place “(b)(7)” in newly redesignated paragraph (b)(8) introductory text.

The revisions and additions read as follows:

§ 680.42 Limitations on use of QS, PQS, IFQ, and IPQ.

* * * * *

(b) * * *

(1) * * *

(ii) * * *

(A) Derived from PQS that was received by that person in the initial allocation of PQS for that crab QS fishery; or

(B) Subject to an exemption for that IPQ pursuant to § 680.4(p); or

(C) Used for custom processing at a facility that is:

(1) Any shoreside crab processor located within the boundaries of a home rule, first class, or second class city in the State of Alaska in existence on June 29, 2009; or

(2) Any stationary floating crab processor that is:

(i) Located within the boundaries of a home rule, first class, or second class city in the State of Alaska in existence on June 29, 2009;

(ii) Moored at a dock, docking facility, or at a permanent mooring buoy, unless that stationary floating crab processor is located within the boundaries of the city of Atka in which case that stationary floating crab processor is not required to be moored at a dock, docking facility, or at a permanent mooring buoy; and

(iii) Located within a harbor, unless that stationary floating crab processor is located within the boundaries of the city of Atka on June 29, 2009, in which case that stationary floating crab processor is not required to be located within a harbor.

(2) A person may not use IPQ in excess of 60 percent of the IPQ issued in the BSS crab QS fishery with a North region designation during a crab fishing year. Except that a person who:

* * * * *

(ii) Has a 10 percent or greater direct or indirect ownership interest in the shoreside crab processor or stationary floating crab processor where that IPQ crab is processed will not be considered to use any IPQ in the BSS crab QS fishery with a North region designation if that IPQ is custom processed at a facility consistent with paragraph (b)(1)(ii)(C) of this section.

(3) A non-individual entity holding PQS will be required to provide, on an annual basis, a list of persons with an ownership interest in the non-individual entity. This ownership list shall be provided to the individual level, will include the percentage of ownership held by each owner, and must be submitted annually with the complete application for a crab IFQ/IPQ permit.

(4) A person will be considered to be a holder of PQS for purposes of applying the PQS use caps in this paragraph if that person:

(i) Is the sole proprietor of an entity that holds PQS; or

(ii) Is not a CDQ group and directly or indirectly owns a 10 percent or greater interest in an entity that holds PQS.

(5) A person that is not a CDQ group and holds PQS is limited to a PQS use cap that is calculated based on the sum of all PQS held by that PQS holder and all PQS held by any affiliate of the PQS holder. A person that is not a CDQ group and holds IPQ is limited to an IPQ use cap that is calculated based on the sum of all IPQ held by that IPQ holder and all IPQ held by any affiliate of the IPQ holder.

(6) A CDQ group that holds PQS is limited to a PQS use cap that is calculated based on the sum of all PQS held, individually or collectively, by that CDQ group. A CDQ group that holds IPQ is limited to an IPQ use cap that is calculated based on the sum of all IPQ held, individually or collectively, by that CDQ group.

* * * * *

8. Effective May 31, 2024, amend § 680.43 by revising paragraph (a) to read as follows:

§ 680.43 Revocation of CVC and CPC QS.

(a) Beginning July 1, 2028, the Regional Administrator will revoke all CVC QS and CPC QS held by an individual who has not met the participation requirements set forth in § 680.40(m). The Regional Administrator will revoke an individual's CVC QS or CPC QS in accordance with the procedures set forth in this section.

* * * * *

[FR Doc. 2024-12230 Filed 5-31-24; 8:45 am]

BILLING CODE 3510-22-P